DEPARTMENT OF DEFENSE

Department of the Navy

Meetings of the Chief of Naval Operations (CNO) Executive Panel

AGENCY: Department of the Navy, DOD.

ACTION: Notice of closed meetings.

SUMMARY: The CNO Executive Panel will hear classified briefings and provide consensus advice to the Chief of Naval Operations on “The Navy Role in Near East Security.” The Panel will also receive CNO direction regarding future studies to be conducted.

DATES: Meetings will be held on November 18-19, 2004, from 8 a.m. to 5 p.m.

ADDRESSES: The meetings will be held at the Center for Naval Analyses, 4825 Mark Center Drive, Alexandria, VA 22311.

FOR FURTHER INFORMATION CONTACT: Commander Gary Herbert, CNO Executive Panel, (703) 681-4941 or Commander Kevin Wilson, CNO Executive Panel, (703) 681-6206.

SUPPLEMENTARY INFORMATION: Pursuant to the provisions of the Federal Advisory Committee Act (5 U.S.C. App. 2), these matters constitute classified information that is specifically authorized by Executive Order to be kept secret in the interest of national defense and are, in fact, properly classified pursuant to such Executive Order. Accordingly, the Secretary of the Navy has determined in writing that the public interest requires that all sessions of this meeting be closed to the public because they will be concerned with matters listed in section 552b(c)(1) of title 5, United States Code.

Dated: November 5, 2004.
J.H. Wagshul,
Commander, Judge Advocate General's Corps, U.S. Navy, Federal Register Liaison Officer.

[FR Doc. 04-25182 Filed 11-9-04; 8:45 am]

BILLING CODE 3810-FF-P